OFFICE OF SCIENCE AND TECHNOLOGY POLICY

Submittal of Mid-Atlantic Regional Ocean Action Plan for National Ocean Council Certification

AGENCY: Office of Science and Technology Policy National Ocean Council, Council on Environmental Quality; Department of Agriculture; Department of Commerce; Department of Defense; Department of Energy; Environmental Protection Agency; Department of Homeland Security; Department of the Interior; Department of Transportation; and Chairman, Joint Chiefs of Staff.

ACTION: Notice.

SUMMARY: The National Ocean Council notifies the public that the Mid-Atlantic Regional Ocean Action Plan was approved for submittal to the National Ocean Council by the Mid-Atlantic Regional Planning Body and submitted to the National Ocean Council for certification, as required by Executive Order 13547. The National Ocean Council will certify, or not certify, the Mid-Atlantic Regional Ocean Action Plan as consistent with the National Ocean Policy, Final Recommendations of the Interagency Ocean Policy Task Force, and the Marine Planning Handbook no sooner than 30 days from the publication of this Notice. The Mid-Atlantic Regional Ocean Action Plan can be found on the National Ocean Council's Web site at: https://www.whitehouse.gov/sites/default/files/microsites/ostp/MidARegionalOceanActionPlan_November2016.pdf.

FOR FURTHER INFORMATION CONTACT: Deerin S. Babb-Brott, Director, National Ocean Council, 202-456-4444.

SUPPLEMENTARY INFORMATION:

I. Background

National Ocean Policy

Executive Order 13547, Stewardship of the Ocean, Our Coasts, and the Great Lakes, signed July 19, 2010, established the National Ocean Policy to protect, maintain, and restore the health and biodiversity of the ocean, coastal, and Great Lakes ecosystems and resources; enhance the sustainability of the ocean and coastal economies and provide for adaptive management; increase our scientific understanding and awareness of changing environmental conditions; and support preservation of navigational rights and freedoms, in accordance with customary international law, which are essential for conservation of marine resources, sustaining the global economy and promoting national security. The National Ocean Policy encourages a comprehensive, ecosystem-based, and transparent ocean planning process for analyzing current and anticipated uses of ocean and coastal areas and resources. This includes the voluntary development of regional marine plans by intergovernmental regional planning bodies such as the Mid-Atlantic Regional Planning Body (MidA RPB). These regional plans build on existing Federal, state, and tribal planning and decision-making processes to enable a more comprehensive and proactive approach to managing marine resources, sustaining coastal uses and improving the conservation of the ocean, our coasts, and the Great Lakes.

Mid-Atlantic Regional Planning Body

The MidA RPB includes six States (Delaware, Maryland, New Jersey, New York, Pennsylvania and Virginia) and two Federally recognized Indian Tribes in the region, the Shinnencock Indian Nation and the Pamunkey Indian Tribe. Eight Federal Agencies serve on the MidA RPB: Department of Agriculture represented by the Natural Resource Conservation Service; Department of Commerce represented by the National Oceanic and Atmospheric Administration; Department of Defense represented by the U.S. Navy; Department of Energy; Department of Homeland Security represented by the U.S. Coast Guard; Department of the Interior represented by the Bureau of Ocean Energy Management, in coordination with, the National Park Service, the U.S. Fish and Wildlife Service, and U.S. Geological Survey; Department of Transportation represented by the Maritime Administration; Environmental Protection Agency; Chairman of the Joint Chiefs of Staff represented by the U.S. Navy; and the U.S. Army Corps in an ex officio status. The Mid-Atlantic Fishery Management Council also serves on the MidA RPB. The MidA RPB is not a regulatory body and has no independent legal authority to regulate or direct Federal, state, or tribal entities, nor does the Mid-Atlantic Regional Ocean Action Plan (Plan) augment or subtract from any agency's existing statutory or regulatory authorities.

National Ocean Council

Executive Order 13547 established the National Ocean Council (NOC) to direct implementation of the National Ocean Policy. The NOC is comprised of: The Secretaries of Agriculture, Commerce, Defense, Energy, Health and Human Services, Homeland Security, Interior, Labor, State, and Transportation; the Attorney General; the Administrators of the Environmental Protection Agency, the National Aeronautics and Space Administration, and National Oceanic and Atmospheric Administration; the Directors of the Office of Management and Budget, National Intelligence, the Office of Science and Technology Policy (OSTP), and National Science Foundation; the Chairman of the Joint Chiefs of Staff; the Chairs of the Council on Environmental Quality (CEQ) and the Federal Energy Regulatory Commission; the Assistants to the President for National Security Affairs, Homeland Security and Counterterrorism, Domestic Policy, Energy and Climate Change, and Economic Policy; and an employee of the Federal Government designated by the Vice President. The Chair of CEQ and the Director of OSTP co-chair the NOC.

NOC Certification of Regional Marine Plans

Executive Order 13547 adopts the Final Recommendations of the Interagency Ocean Policy Task Force (Final Recommendations). The Final Recommendations set forth the process for the NOC to review and certify each regional marine plan to ensure it is consistent with the National Ocean Policy and includes the essential elements described in the Final Recommendations as further characterized by the NOC's subsequent Marine Planning Handbook (Handbook; 2013). Consistent with the Final Recommendations and the Handbook, the NOC will determine whether to certify, or not certify, the Mid-Atlantic Regional Ocean Action Plan no sooner than 30 days from the publication of this Notice. Pursuant to Executive Order 13547, if the NOC certifies the Mid-Atlantic Regional Ocean Action Plan, Federal Agencies shall comply with the Plan in the conduct of their missions and programs to the fullest extent consistent with applicable law.

II. The Mid-Atlantic Regional Ocean Action Plan

The Mid-Atlantic Regional Ocean Action Plan is a comprehensive, flexible, and proactive approach to managing uses and resources in the marine environment of the Mid-Atlantic United States. The Plan is intended to strengthen interagency coordination, enhance public participation, and improve planning and policy implementation. The Plan has two main goals: (1) Healthy ocean ecosystems and (2) sustainable ocean uses. The Plan also describes best practices for coordination among Federal Agencies, Tribes, States, stakeholders, and the public. The Mid-Atlantic Regional Ocean Action Plan is informed by extensive stakeholder data and input. Throughout the planning process, stakeholders were involved in developing data products for human activities (such as shipping, fishing, recreation, and energy) and marine life and habitat (through review of the methods, analyses, and draft products for spatial data characterizing species and their habitats). These data products reside on the Mid-Atlantic Ocean Data Portal (Data Portal or Portal). The MidA RPB uses the Portal, developed by the Mid-Atlantic Regional Council on the Ocean (MARCO), in collaboration with an associated working group, to serve as a user-friendly source of maps, data, and tools that can serve as one source of information to inform ocean planning from New York to Virginia. A range of government entities, non-government organizations, and stakeholders in the Mid-Atlantic region are already using the Portal. It is available to the public online at the MidA Regional Ocean Action Plan Web site: http://midatlanticocean.org/data-portal/.

As described in a Notice by the Department of the Interior's Bureau of Ocean Energy Management (BOEM), published in the Federal Register on July 6, 2016 (81 FR 44040), the MidA RPB previously released a draft Mid-Atlantic Regional Ocean Action Plan for a 60-day public comment period. The MidA RPB prepared a summary and response to the comments received from the public and stakeholders on this draft that can be found at http://www.boem.gov/Ocean-Action-Plan.

III. Implementation of the Mid-Atlantic Regional Ocean Action Plan

The Federal members of the MidA RPB administer a wide range of statutes and programs that involve or affect the marine environment in the Mid-Atlantic regional ocean planning area. These Federal departments and agencies carry out actions under Federal laws involving a wide range of regulatory responsibilities and non-regulatory missions and management activities throughout the Nation's waterways and the ocean. Activities of Federal MidA RPB members include managing and developing marine transportation infrastructure, national security and homeland defense activities; regulating ocean discharges; siting energy facilities; permitting sand removal and beach re-nourishment; managing national parks, national wildlife refuges, and national marine sanctuaries; regulating commercial and recreational fishing; and managing activities affecting threatened and endangered species and migratory birds.

The specific manner and mechanism each Federal agency will use to implement the Mid-Atlantic Regional Ocean Action Plan will depend on that agency's mission, authorities, and activities. If the NOC certifies that the Mid-Atlantic Regional Ocean Action Plan is consistent with the National Ocean Policy, the Final Recommendations, and the Handbook, each Federal MidA RPB member will use the Mid-Atlantic Regional Ocean Action Plan to inform and guide its planning activities and decision-making actions, including permitting, authorizing, and leasing decisions that involve or affect the Mid-Atlantic regional ocean planning area.

Specifically, consistent with applicable statutory authorities, Executive Order 13547 and the Final Recommendations, the Federal Agencies represented on the MidA RPB, and their relevant components, expressly including the U.S. Army Corps of Engineers in its ex officio status for responsibilities beyond those in Title 10, U.S. Code, will: (1) Identify, develop, and make publicly available implementing instructions, such as internal agency guidance, directives, or similar organizational or administrative documents, that describe the way the agency will use the Plan to inform and guide its actions and decisions in or affecting the Mid-Atlantic regional ocean planning area; (2) ensure that the agency, through such internal administrative instructions, will consider the data products available from the Data Portal in its decision making and as it carries out its actions in or affecting the Mid-Atlantic regional ocean planning area; and (3) explain its use of the Plan and Data Portal in its decisions, activities, or planning processes that involve or affect the Mid-Atlantic regional ocean planning area.

IV. Conclusion

The National Ocean Policy provides a path for Federal Agencies, states and tribes to work collaboratively and proactively to manage the many existing and future uses of the Nation's oceans, coasts and Great Lakes. If the NOC certifies the Mid-Atlantic Regional Ocean Action plan, MidA RPB members intend to use the Plan to align their priorities and share data and technical information to minimize conflicts among uses, take actions to promote the productivity of marine resources, sustain healthy ecosystems, and promote the prosperity and security of the Nation's ocean and coastal communities and their economies for the benefit of present and future generations. The NOC will review the Mid-Atlantic Regional Ocean Action Plan for consistency with the National Ocean Policy, Final Recommendations of the Interagency Ocean Policy Task Force, and the Marine Planning Handbook and make its determination no sooner than 30 days from the publication of this Notice.

Authority: Executive Order 13547, “Stewardship of the Ocean, Our Coasts and the Great Lakes” (July 19, 2010).

Ted Wackler,
Deputy Chief of Staff and Assistant Director.

[FR Doc. 2016-26623 Filed 11-2-16; 8:45 am]

BILLING CODE 3270-F7-P